NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee for Social, Behavioral & Economic Sciences (#1171).

Date and Time:

December 15, 2022; 1 p.m.-5 p.m. (eastern).

December 16, 2022; 12 p.m.-4 p.m. (eastern).

Place: NSF, 2415 Eisenhower Avenue, Alexandria, VA 22314 (Virtual).

Type of Meeting: Open.

Contact Persons: John Garneski, National Science Foundation, 2415 Eisenhower Avenue, Alexandria, VA 22314; telephone: 703.292.4519.

Purpose of Meeting: To provide advice, recommendations and counsel on major goals and policies pertaining to engineering programs and activities.

Agenda

• Welcome, Introductions, Approval of Previous Advisory Committee (AC) Meeting Summary, and Preview of Agenda

• Directorate for Social, Behavioral, and Economic Sciences (SBE) Update

• CHIPS + Science Act Overview and SBE Impacts

• SBE Engagement and Partnerships

• Federal Research Public Access Directive

• New AC Member Presentation

• Meeting with NSF Leadership

• Committee on Equal Opportunities in Science and Engineering (CEOSE) Update

Dated: November 18, 2022.
Crystal Robinson,
Committee Management Officer.

[FR Doc. 2022-25524 Filed 11-22-22; 8:45 am]

BILLING CODE 7555-01-P